DEPARTMENT OF COMMERCE

National Oceanic and Atmospheric Administration

[I.D. 020700D]

Endangered Species; Permits

AGENCY: National Marine Fisheries Service (NMFS), National Oceanic and Atmospheric Administration (NOAA), Commerce.

ACTION: Receipt of application for ESA section 10(a)(1)(A) enhancement permit #1237.

SUMMARY: Notice is hereby given that NMFS has received a permit application from the U.S. Army Corps of Engineers, Walla Walla District at Walla Walla, WA (Corps).

DATES: Comments or requests for a public hearing on this application request must be received at the appropriate address or fax number (see ADDRESSES) no later than 5:00pm pacific standard time on March 17, 2000.

ADDRESSES: Written comments on this application should be sent to the Protected Resources Division (PRD), F/NWO3, 525 NE Oregon Street, Suite 500, Portland, OR 97232-2737. Comments may also be sent via fax to 503-230-5435. Comments will not be accepted if submitted via e-mail or the internet. The application and related documents are available for review by appointment in the Protected Resources Division, F/NWO3, 525 NE Oregon Street, Suite 500, Portland, OR 97232-2737 (ph: 503-230-5400, fax: 503-230-5435).

Documents may also be reviewed by appointment in the Office of Protected Resources, F/PR3, NMFS, 1315 East-West Highway, Silver Spring, MD 20910-3226 (301-713-1401).

FOR FURTHER INFORMATION CONTACT: Robert Koch, Portland, OR (ph: 503-230-5424, fax: 503-230-5435, e-mail: Robert.Koch@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on the application listed in this notice should set out the specific reasons why a hearing on the application would be appropriate (see ADDRESSES). The holding of such hearing is at the discretion of the Assistant Administrator for Fisheries, NOAA. All statements and opinions contained in the permit action summary are those of the applicant and do not necessarily reflect the views of NMFS.

Species Covered in this Notice

The following species and evolutionarily significant units (ESU's) are covered in this notice:

Chinook salmon (Oncorhynchus tshawytscha): threatened, naturally produced and artificially propagated Snake River (SnR) spring/summer; threatened SnR fall; endangered, naturally produced and artificially propagated upper Columbia River (UCR) spring.

Sockeye salmon (O. nerka): endangered, naturally produced and artificially propagated SnR.

Steelhead (O. mykiss): threatened SnR; endangered naturally produced and artificially propagated UCR; threatened middle Columbia River (MCR).

To date, protective regulations for threatened SnR and MCR steelhead under section 4(d) of the ESA have not been promulgated by NMFS. This notice of receipt of an application requesting takes of these species is issued as a precaution in the event that NMFS issues protective regulations that prohibit takes of threatened SnR and MCR steelhead. The initiation of a 30-day public comment period on the application, including its proposed takes of threatened SnR and MCR steelhead does not presuppose the contents of the eventual protective regulations.

Application Received

The Corps requests a 5-year ESA section 10(a)(1)(A) enhancement permit to replace permit #895, which is due to expire on December 31, 2000. The permit is requested for annual takes of ESA-listed SnR salmon/steelhead for the purposes of enhancement, and incidental takes of ESA-listed UCR and MCR salmon/steelhead, associated with the transportation of juvenile anadromous fish around the mainstem dams and reservoirs on the Snake and Columbia Rivers in the Pacific Northwest. The purpose of the Corps' Juvenile Fish Transportation Program (JFTP) is to increase juvenile fish survival over the alternative of in-river passage, given current in-river migratory conditions. The collection and transportation of juvenile salmonids is projected to occur March 25 through October 31 each year at Lower Granite, Little Goose, and Lower Monumental Dams, and March 25 through December 15 each year at McNary Dam. The Corps proposes to load the juvenile fish into trucks or barges at the hydropower facilities for transportation to below Bonneville Dam on the Columbia River. Further handling of the ESA-listed fish does not occur except when salmonids are handled for smolt monitoring and research purposes by researchers holding separate permits. Indirect mortalities of ESA-listed juvenile fish associated with the JFTP are requested by the Corps. The Corps also requests annual incidental takes, including incidental mortalities, of ESA-listed adult fish associated with fallbacks at the juvenile fish transportation facilities.

The Corps' JFTP is a mitigation measure recommended by NMFS' Reinitiation of Consultation on 1994-1998 Operation of the Federal Columbia River Power System (FCRPS) and Juvenile Transportation Program in 1995 and Future Years biological opinion issued on March 2, 1995 and the 1998 supplement to that opinion. However, NMFS is in the process of consulting with the Federal action agencies, including the Corps, on the long-term management strategy for the FCRPS, pursuant to section 7 of the ESA. Issuance of the proposed permit will depend on the completion of that consultation process and the requirements of any biological opinion resulting from the consultation.

Dated: February 10, 2000.
Wanda L. Cain,
Chief, Endangered Species Division, Office of Protected Resources, National Marine Fisheries Service.

[FR Doc. 00-3726 Filed 2-15-00; 8:45 am]

BILLING CODE 3510-22-F